DEPARTMENT OF DEFENSE

Renewal of Department of Defense Federal Advisory Committee

AGENCY: Department of Defense (DoD).

ACTION: Renewal of Federal Advisory Committee.

SUMMARY: The DoD is publishing this notice to announce that it is renewing the Defense Health Board (“the Board”).

FOR FURTHER INFORMATION CONTACT: Jim Freeman, Advisory Committee Management Officer for the Department of Defense, 703-692-5952.

SUPPLEMENTARY INFORMATION: Based on its decision to renew the Board, the DoD is filing a new Board charter in accordance with the Federal Advisory Committee Act (FACA) (5 U.S.C., App) and 41 CFR 102-3.50(d). The charter and contact information for the Board's Designated Federal Officer (DFO) are found at https://www.facadatabase.gov/FACA/apex/FACAPublicAgencyNavigation.

The Board provides independent advice and recommendations to maximize the safety and quality of, as well as access to, health care for DoD healthcare beneficiaries. The Board will focus on matters pertaining to: a. DoD healthcare policy and program management; b. health research programs, c. requirements for the treatment and prevention of disease and injury by the DoD; d. promotion of health and wellness within DoD and the effective delivery of high-quality health care services to DoD beneficiaries; and e. Other health-related matters of special interest to the DoD, as determined by the Secretary of Defense, the Deputy Secretary of Defense, or the Under Secretary of Defense for Personnel and Readiness. The Board shall be composed of no more than 19 members. The members shall be eminent authorities in one or more of the following disciplines: Health care research/academia, infectious disease, occupational/environmental health, health care policy, trauma medicine/systems, clinical health care, strategic decision making, bioethics or ethics, beneficiary representative, neuroscience, and behavioral health. Board members who are not full-time or permanent part-time Federal civilian officers or employees, or active duty members of the Uniformed Services will be appointed as an expert or consultant, pursuant to 5 U.S.C. 3109, to serve as special government employee members. Board members who are full-time or permanent part-time Federal civilian officers or employees, or active duty members of the Uniformed Services will be appointed pursuant to 41 CFR 102-3.130(a), to serve as regular government employee members.

All members of the Board are appointed to provide advice on the basis of their best judgment without representing any particular point of view and in a manner that is free from conflict of interest. Except for reimbursement of official Board-related travel and per diem, members serve without compensation.

The public or interested organizations may submit written statements to the Board membership about the Board's mission and functions. Written statements may be submitted at any time or in response to the stated agenda of planned meeting of the Board. All written statements shall be submitted to the DFO for the Board, and this individual will ensure that the written statements are provided to the membership for their consideration.

Dated: December 10, 2020.
Kayyonne T. Marston,
Alternate OSD Federal Register Liaison Officer, Department of Defense.

[FR Doc. 2020-27594 Filed 12-15-20; 8:45 am]

BILLING CODE 5001-06-P